DEPARTMENT OF ENERGY

Federal Energy Regulatory Commission

Combined Notice of Filings

Take notice that the Commission has received the following Natural Gas Pipeline Rate and Refund Report filings:

Docket Numbers: RP17-834-000.

Applicants: El Paso Natural Gas Company, L.L.C.

Description: Motion to Intervene of Southwest Gas Corporation under RP17-834.

Filed Date: 7/3/17.

Accession Number: 20170703-5203.

Comments Due: 5 p.m. ET 7/17/17.

Docket Numbers: RP17-885-000.

Applicants: Equitrans, L.P.

Description: Equitrans, L.P. submits tariff filing per 154.204: Negotiated Capacity Release Agreements—7/1/17 to be effective 7/1/2017.

Filed Date: 7/3/17.

Accession Number: 20170703-5086.

Comments Due: 5 p.m. ET 7/17/17.

Docket Numbers: RP17-886-000.

Applicants: WTG Hugoton, LP.

Description: WTG Hugoton, LP submits tariff filing per 154.204: Annual Fuel Retention Percentage Filing 2017-20181 to be effective 8/1/2017.

Filed Date: 7/3/17.

Accession Number: 20170703-5172.

Comments Due: 5 p.m. ET 7/17/17.

Docket Numbers: RP17-840-000.

Applicants: Rockies Express Pipeline LLC.

Description: (doc-less) Motion to Intervene of Rice Energy Marketing LLC.

Filed Date: 7/5/17.

Accession Number: 20170705-5033.

Comments Due: 5 p.m. ET 7/17/17.

Docket Number: PR17-51-000.

Applicants: Acacia Natural Gas, L.L.C.

Description: Tariff filing per 284.123(b),(e)/: Acacia Revisions to Update Corporate Address to be effective 6/28/2017.

Filed Date: 6/28/17.

Accession Number: 201706285175.

Comments/Protests Due: 5 p.m. ET7/19/17.

Docket Number: PR17-52-000.

Applicants: Bridgeline Holdings, L.P.

Description: Tariff filing per 284.123(b),(e)/: Bridgeline Revisions to Update Corporate Address to be effective 6/28/2017.

Filed Date: 6/28/17.

Accession Number: 201706285176.

Comments/Protests Due: 5 p.m. ET 7/19/17.

Docket Number: PR17-53-000.

Applicants: Black Hills Gas Distribution LLC.

Description: Tariff filing per 284.123(b),(e)+(g): Revised Statement of Operating Conditions to be effective 6/1/2017.

Filed Date: 6/29/17.

Accession Number: 201706295176.

Comments Due: 5 p.m. ET 7/20/17.

284.123(g) Protests Due: 5 p.m. ET 8/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2017.
Kimberly D. Bose,
Secretary.

[FR Doc. 2017-14675 Filed 7-12-17; 8:45 am]

BILLING CODE 6717-01-P